DEPARTMENT OF AGRICULTURE

Farm Service Agency

[Docket ID: FSA-2022-0007]

Information Collection Request; Direct Loan Making

AGENCY: Farm Service Agency, USDA.

ACTION: Notice; request for comments.

SUMMARY: In accordance with the Paperwork Reduction Act (PRA) of 1995, the Farm Service Agency (FSA) is requesting comments from all interested individuals and organizations on a revision and an extension of a currently approved information collection associated with Direct Loan Making Program. The collected information is used in eligibility and feasibility determinations on farm loan applications.

DATES: We will consider comments that we receive by October 31, 2022.

ADDRESSES: We invite you to submit comments in response to this notice. FSA prefers that the comments are submitted electronically through the Federal eRulemaking Portal, identified by Docket ID No. FSA-2022-0007, go to https://www.regulations.gov and search for docket ID FSA-2022-0007. Follow the online instructions for submitting comments.

All comments received will be posted without change and made publicly available on www.regulations.gov.

FOR FURTHER INFORMATION CONTACT: Raenata Walker-Cohen; telephone; (202) 205-0682; email: raenata.walker-cohen@usda.gov. Persons with disabilities who require alternative means for communication should contact the USDA Target Center at (202) 720-2600 (voice) or (844) 433-2774 (toll-free nationwide).

SUPPLEMENTARY INFORMATION: Title: Farm Loan Programs, Direct Loan Making.

OMB Control Number: 0560-0237.

Expiration Date: October 31, 2022.

Type of Request: Revision and Extension.

Abstract: FSA's Farm Loan Programs provide loans to family farmers to purchase real estate and equipment, and to finance agricultural production. Direct Loan Making and Direct Farm Ownership Microloan (DFOML) regulations in 7 CFR part 764 provide the requirements and process for determining an applicant's eligibility for a direct loan.

There were changes to the numbers in the request because the figures were miscalculated in the previous report. Consequently, the burden hours increased by 67,345, and the number of responses increased by 6,330. The numbers are currently reflected in the information collection request.

For the following estimated total annual burden on respondents, the formula used to calculate the total burden hour is the estimated average time per responses hours multiplied by the estimated total annual responses.

Estimate of Average Time to Respond: Public reporting burden for the information collection is estimated to average 0.405 hours per response.

Type of Respondents: Individuals or households, businesses or other for-profit farms.

Estimated Annual Number of Respondents: 184,871.

Estimated Number of Reponses per Respondent: 3.8.

Estimated Total Annual Responses: 704,724.

Estimated Average Time per Response: 0.405 hours.

Estimated Total Annual Burden on Respondents: 285,272 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Marcus Graham,
Acting Administrator, Farm Service Agency.

[FR Doc. 2022-18869 Filed 8-30-22; 8:45 am]

BILLING CODE 3410-05-P